DEPARTMENT OF ENERGY

Federal Energy Regulatory Commission

[Docket No. RP03-478-000]

Texas Gas Transmission Corporation; Notice of Proposed Changes in FERC Gas Tariff

May 21, 2003.

Take notice that on May 16, 2003, Texas Gas Transmission Corporation (Texas Gas) tendered for filing as part of its FERC Gas Tariff, the tariff sheets listed below to become effective May 16, 2003:

First Revised Volume No. 1.

First Revised Sheet No. 2A.

FPC Gas Tariff, Original Volume No. 2.

Tenth Revised Sheet No. 1.

In accordance with Section 154.602 of the Commission Regulations, Texas Gas files herewith a Notice of Cancellation for its FPC Tariff, Original Volume No. 2. Original Volume No. 2 had previously contained Texas Gas's X-Rate Schedules, which have subsequently all been cancelled or terminated. The proposed First Revised Sheet No. 2A sets forth the statement of cancellation and thereby removes all reference to Original Volume No. 2 from Texas Gas's FERC Gas Tariff, First Revised Volume No. 1.

Texas Gas states that copies of the tariff sheets are being mailed to all parties on Texas Gas's official service list, to Texas Gas's jurisdictional customers, and to interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 28, 2003.

Magalie R. Salas,
Secretary.

[FR Doc. 03-13300 Filed 5-28-03; 8:45 am]

BILLING CODE 6717-01-P